DEPARTMENT OF ENERGY

Federal Energy Regulatory Commission

[Docket No. RP01-503-000]

Natural Gas Pipeline Company of America; Notice Denying Emergency Request for Reconsideration

June 3, 2005.

On May 24, 2005, Natural Gas Pipeline Company of America (Natural) filed, in the above-docketed proceeding, an emergency request for reconsideration of the Commission's order setting for hearing the issue of appropriate hydrocarbon dew point (HDP) safe harbor level on Natural's system. On May 31, the Commission issued a notice shortening the period for filing answers to Natural's request to June 2, 2005. On May 27, and June 2, 2005, Alliance Pipeline L.P., Indicated Shippers, and Aux Sable Liquid Products, L.P. filed respective answers in opposition to Natural's request. By this notice, Natural's May 24, 2005, emergency request for reconsideration is hereby denied.

By direction of the Commission.
Linda Mitry,
Deputy Secretary.

[FR Doc. E5-2968 Filed 6-8-05; 8:45 am]

BILLING CODE 6717-01-P